DEPARTMENT OF AGRICULTURE

National Institute of Food and Agriculture

Notice of Intent To Extend and Revise a Currently Approved Information Collection

AGENCY: National Institute of Food and Agriculture, USDA.

ACTION: Notice and request for comments.

SUMMARY: In accordance with the Paperwork Reduction Act of 1995 and Office of Management and Budget (OMB) regulations, this notice announces the National Institute of Food and Agriculture's (NIFA) intention to request an extension and revision of collection titled Veterinary Medicine Loan Repayment Program (VMLRP).

DATES: Written comments on this notice must be received by September 15, 2025 to be assured of consideration. Comments received after that date will be considered to the extent practicable.

ADDRESSES: You may submit comments through the Federal eRulemaking Portal: http://www.regulations.gov. Follow the instructions for submitting comments.

Instructions: All comments received will be posted without change to http://www.regulations.gov, including any personal information provided.

FOR FURTHER INFORMATION CONTACT: Laura Givens, 816-527-5379, Laura.Givens@usda.gov.

SUPPLEMENTARY INFORMATION:

Title of Collection: Veterinary Medicine Loan Repayment Program (VMLRP).

OMB Control Number: 0524-0050.

Expiration Date of Current Approval: 01/31/2026.

Type of Request: Notice of intent to extend and revise a currently approved information collection.

NIFA is requesting a three-year extension for the current collection entitled “Veterinary Medicine Loan Repayment Program.”

NIFA is also proposing to update the VMLRP application forms to ensure that the requirements align with 7 U.S.C. 3151a and 7 CFR part 3431, relevant Executive Orders and OMB Guidance, as well as the latest VMLRP program policies.

Abstract: In December 2003, the National Veterinary Medical Service Act (NVMSA) was passed into law adding section 1415A to the National Agricultural Research, Extension, and Teaching Policy Act of 1997. This law established a new Veterinary Medicine Loan Repayment Program (VMLRP) (7 U.S.C. 3151a) authorizing the Secretary of Agriculture to carry out a program of entering into agreements with veterinarians under which they agree to provide veterinary services in veterinarian shortage situations. The purpose of the program is to ensure an adequate supply of trained food animal veterinarians in shortage situations.

NIFA is requesting to extend and modify a currently approved information collection. NIFA will collect information from current VMLRP applicants and participants and from State Animal Health Officials. NIFA will use this information to assess the VMLRP program and to improve oversight of the program. NIFA proposes to revise all forms in the collection to align with the VMLRP requirements as found in 7 U.S.C. 3151a and 7 CFR part 3431, as well as relevant Executive Orders and OMB Guidance. NIFA also proposes to retire the Survey of Animal Health Officials Completing VMLRP Veterinary Shortage Nomination Form, Applicant Feedback Survey, Awardee Feedback Survey, Close Out Report, Post-Award Termination Survey and the Service Log.

Total Estimate of Burden: The estimated annual reporting burden for all VMLRP collection is as follows:

Type of respondents | Number of respondents | Estimated number of responses per respondent | Estimated burden per response (hours) | Estimated total annual burden on respondents (hours)
Applicants:
Veterinary Medicine Loan Repayment Program Application | 200 | 1 | 12 | 2,400
Applicants subtotal |  |  |  | 2,400
State Animal Health Officials:
Veterinary Medicine Loan Repayment Program Shortage Situation Nomination (NIFA 2009-0001) | 60 | 4 | 2 | 480
State Animal Health Officials subtotal |  |  |  | 480
Active Participants:
Service Verification Form | 300 | 4 | .25 | 300
Annual Report | 300 | 1 | 2 | 600
Final Report | 300 | 1 | 2 | 600
Active Participant subtotal |  |  |  | 1,500
Grand Total |  |  |  | 4,380

Comments: Comments are invited on: (a) Whether the proposed collection of information is necessary for the proper performance of the functions of the Agency, including whether the information will have practical utility; (b) the accuracy of the Agency's estimate of the burden of the proposed collection of information; (c) ways to enhance the quality, utility, and clarity of the information to be collected; and (d) ways to minimize the burden of the collection of information on those who are to respond, including using appropriate automated, electronic, mechanical, or other technological collection techniques or other forms of information technology.

All responses to this notice will be summarized and included in the request to OMB for approval. All comments will become a matter of public record.

Obtaining a Copy of the Information Collection: A copy of the information collection and related instructions may be obtained free of charge by contacting Laura Givens as directed above.

Drenda Williams,
Associate Director for Operations, National Institute of Food and Agriculture, U.S. Department of Agriculture.

[FR Doc. 2025-13207 Filed 7-14-25; 8:45 am]

BILLING CODE 3410-22-P